COMMITTEE FOR PURCHASE FROM PEOPLE WHO ARE BLIND OR SEVERELY DISABLED

Procurement List, Additions

AGENCY: Committee for Purchase From People Who Are Blind or Severely Disabled.

ACTION: Additions to the procurement list.

SUMMARY: This action adds to the Procurement List commodities and services to be furnished by nonprofit agencies employing persons who are blind or have other severe disabilities.

EFFECTIVE DATE: July 31, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On September 17, 1999 and April 21 and May 12, 2000, the Committee for Purchase From People Who Are Blind or Severely Disabled published notices (64 FR 50485 and 65 FR 21395 and 30563) of proposed additions to the Procurement List. After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are hereby added to the Procurement List:

Commodities

Electronic Components

7420-00-NIB-0014 (Palm-Sized Portfolio w/Calculator)

7420-00-NIB-0015 (9″ × 12″ Portfolio w/Calculator)

7420-00-NIB-0016 (Flip-Up Calculator)

7420-00-NIB-0017 (10-Digit Calculator)

7420-00-NIB-0018 (12-Digit Calculator)

7420-00-NIB-0019 (Mouse Pad w/Calculator)

7420-00-NIB-0020 (Mouse Pad w/Calculator/Disk Holder)

7420-00-NIB-0021 (Clipboard w/Calculator)

Services

Grounds Maintenance

Playground Areas, Camp Lejeune, North Carolina

Janitorial/Custodial

Sandra Day O'Connor Federal Building, 401 West Washington Street, Phoenix, Arizona

Naval Medical Center (NMC) and Branch Medical and Dental Clinics at the following locations:

North Island Naval Air Station, Naval Station,

Naval Amphibious Base, Miramar Naval Air Station, Naval Training Center and Marine Corp Recruit Depot, San Diego, California

U.S. Coast Guard, Elizabeth City, North Carolina

Publication File Maintenance for National Environmental Publications Internet Site (NEPIS) Website

Environmental Protection Agency, Cincinnati, Ohio

This action does not affect current contracts awarded prior to the effective date of this addition or options that may be exercised under those contracts.

Louis R. Bartalot,
Deputy Director (Operations).

[FR Doc. 00-16642 Filed 6-29-00; 8:45 am]

BILLING CODE 6353-01-P